RAILROAD RETIREMENT BOARD

Public Availability of Railroad Retirement Board FY 2012 Service Contract Inventory

AGENCY: Railroad Retirement Board (RRB).

ACTION: Notice of Public Availability of FY 2012 Service Contract Inventory.

SUMMARY: In accordance with Section 743 of Division C of the Consolidated Appropriations Act of 2010 (Pub. L. 111-117), Railroad Retirement Board is publishing this notice to advise the public of the availability of the FY 2012 Service Contract inventories. This inventory provides information on service contract actions, over $25,000, which the RRB awarded during FY 2012. The information is organized by function to show how contracted resources were used by the agency to support its mission. The inventory has been developed in accordance with guidance issued on November 5, 2010 by the Office of Management and Budget's Office of Federal Procurement Policy (OFPP), as updated by OFPP memorandum dated December 19, 2011. OFPP's guidance is available at http://www.whitehouse.gov/sites/default/files/omb/procurement/memo/service-contract-inventory-guidance.pdf. The Railroad Retirement Board has posted (1) its FY 2012 inventory and (2) a summary of the FY 2012 inventory, as well as (3) RRB's planned analysis of its selected special interest functions from the FY 2012 Service Contract inventory, and finally (4) the analysis report on its FY 2011 Service Contract Inventory special interest functions, on the Railroad Retirement Board homepage at the following link: http://www.rrb.gov/mep/agency_mgt.asp.

FOR FURTHER INFORMATION CONTACT: Questions regarding the service contract inventory and analysis reports should be directed to Paul Ahern in the Acquisition Management Division, Office of Administration at 312-751-7130 or paul.ahern@rrb.gov.

Dated: January 24, 2013.
Martha P. Rico,
Secretary to the Board.

[FR Doc. 2013-02154 Filed 2-1-13; 8:45 am]

BILLING CODE 7905-01-P